DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community number
Arkansas: Pulaski (Case No.: 03-06-1726P) (FEMA Docket No. P-7634) | City of Little Rock | January 28, 2004, February 4, 2004, Arkansas Democrat Gazette | The Honorable Jim Dailey, Mayor, City of Little Rock, Little Rock City Hall, Room 203, 500 West Markham, Little Rock, AR 72201 | January 7, 2004 | 050181
Illinois: Kane and Cook (Case No.: 03-05-3985P) (FEMA Docket No. P-7634) | City of Elgin | January 14, 2004, January 21, 2004, The Daily Herald | The Honorable Ed Schock, Mayor, City of Elgin, 150 Dexter Court, Elgin, IL 60120 | December 15, 2003 | 170087
Illinois: Kane (Case No.: 03-05-3985P) (FEMA Docket No. P-7634) | Unincorporated Areas | January 14, 2004, January 21, 2004, The Daily Herald | Mr. Michael W. McCoy, Chairman, Kane County, Kane County Government Center, 719 South Batavia Avenue, Bldg. A, Geneva, IL 60134 | December 15, 2003 | 170896
Illinois: Will (Case No.: 03-05-3973P) (FEMA Docket No. P-7634) | Village of Plainfield | January 21, 2004, January 28, 2004, The Enterprise | The Honorable Richard Rock, Mayor, Village of Plainfield, 530 West Lockport Street, Suite 206, Plainfield, IL 60544 | January 5, 2004 | 170771
Illinois: Randolph (Case No.: 03-05-4001P) (FEMA Docket No. P-7634) | Village of Prairie du Rocher | February 5, 2004, February 12, 2004, North County News | Mr. Larry Durbin, President, Village of Prairie du Rocher, P.O. Box 325, Prairie du Rocher, IL 62277 | May 13, 2004 | 170578
Illinois: Randolph (Case No.: 03-05-4001P) (FEMA Docket No. P-7634) | Unincorporated Areas | February 5, 2004, February 12, 2004, The County Journal | Mr. Terry Moore, Randolph County Commissioner, #1 Taylor Street, Chester, IL 62233 | May 13, 2004 | 170575
Illinois: McHenry (Case No.: 03-05-1458P) (FEMA Docket No. P-7634) | Village of Spring Grove | January 8, 2004, January 15, 2004, The Northwest Herald | Mr. Robert Martens, Village President, Village of Spring Grove, 7401 Meyer Road, Spring Grove, IL 60081 | December 11, 2003 | 170485
Illinois: Will (Case No.: 03-05-3973P) (FEMA Docket No. P-7634) | Unincorporated Areas | January 21, 2004, January 28, 2004, The Enterprise | Mr. Joseph Mikan, Executive, Will County, Will County Office Building, 302 North Chicago Street, Joliet, IL 60432 | Janaury 5, 2004 | 170695
Missouri: Ste. Genevieve (Case No.: 03-07-1278P) (FEMA Docket No. P-7634) | City of Ste. Genevieve | February 4, 2004, February 11, 2004, Ste. Genevieve Herald | The Hon. Richard Greminger, Mayor, City of Ste. Genevieve, 165 South 4th Street, Ste. Genevieve, MO 63670 | May 12, 2004 | 290325
Missouri: Ste. Genevieve (Case No.: 03-07-1278P) (FEMA Docket No. P-7634) | Unincorporated Areas | February 4, 2004, February 11, 2004, Ste. Genevieve Herald | Mr. Albert Fults, Presiding Commissioner, Ste. Genevieve County, 55 South 3rd Street, Ste. Genevieve, MO 63670 | May 12, 2004 | 290833
New Mexico: Bernalillo (Case No.: 03-06-1727P) (FEMA Docket No. P-7634) | City of Albuquerque | January 14, 2004, January 21, 2004, Albuquerque Journal | The Honorable Martin Chavez, Mayor, City of Albuquerque, P.O. Box 1293, Albuquerque, NM 87103 | April 21, 2004 | 350002
New Mexico: Bernalillo (Case No.: 03-06-2543P) (FEMA Docket No. P-7634) | City of Albuquerque | January 13, 2004, January 20, 2004, Albuquerque Journal | The Honorable Martin Chavez, Mayor, City of Albuquerque, P.O. Box 1293, Albuquerque, NM 87103 | December 16, 2003 | 350002
Oklahoma: Cleveland (Case No.: 02-06-1713P) (FEMA Docket No. P-7634) | City of Norman | January 7, 2004, January 14, 2004, The Norman Transcript | The Honorable Ron Henderson, Mayor, City of Norman, 2143 Jackson Drive, Norman, OK 73071 | April 14, 2004 | 400046
Oklahoma: Tulsa (Case No.: 03-06-831P) (FEMA Docket No. P-7632) | City of Tulsa | November 18, 2003, November 25, 2003, Tulsa World | The Honorable Bill LaFortune, Mayor, City of Tulsa, 200 Civic Center, Tulsa, OK 74103 | November 5, 2003 | 405381
Texas: Tarrant (Case No.: 04-06-383P) (FEMA Docket No. P-7634) | City of Bedford | January 29, 2004, February 5, 2004, The Star Telegram | The Honorable John Williams, Mayor, City of Bedford, 1813 Reliance Parkway, Bedford, TX 76021 | May 6, 2004 | 480585
Texas: Dallas (Case No.: 03-06-699P) (FEMA Docket No. P-7634) | City of Carrollton | January 14, 2004, January 21, 2004, The Carrollton Leader | The Honorable Mark Stokes, Mayor, City of Carrollton, 1945 East Jackson Road, Carrollton, TX 75006 | April 21, 2004 | 480167
Texas: Collin (Case No.: 03-06-677P) (FEMA Docket No. P-7634) | Unincorporated Areas | February 11, 2004, February 18, 2004, Plano Star Courier | The Honorable Ron Harris, Collin County Judge, 210 S. McDonald Street, Suite 626, McKinney, TX 75069 | May 19, 2004 | 480130
Texas: Hidalgo (Case No.: 03-06-1004P) (FEMA Docket No. P-7634) | City of Edinburg | January 9, 2004, January 16, 2004, Edinburg Daily Review | The Honorable Richard H. Garcia, Mayor, City of Edinburg, P.O. Box 1079, Edinburg, TX 78540-1079 | December 16, 2003 | 480338
Texas: Tarrant (Case No.: 03-06-1206P) (FEMA Docket No. P-7628) | City of Fort Worth | August 22, 2003, August 29, 2003, The Star Telegram | The Honorable Michael Moncrief, Mayor, City of Fort Worth, 1000 Throckmorton Street, Fort Worth, TX 76102-6311 | November 28, 2003 | 480596
Texas: Williamson (Case No.: 03-06-695P) (FEMA Docket No. P-7628) | City of Georgetown | August 20, 2003, August 27, 2003, Williamson County Sun | The Honorable Gary Nelon, Mayor, City of Georgetown, P.O. Box 409, Georgetown, TX 78627 | November 26, 2003 | 480668
Texas: Dallas (Case No.: 03-06-700P) (FEMA Docket No. P-7634) | City of Mesquite | January 7, 2004, January 14, 2004, The Mesquite News | The Honorable Mike Anderson, Mayor, City of Mesquite, P.O. Box 850137, Mesquite, TX 75185 | April 14, 2004 | 485490
Texas: Midland (Case No.: 03-06-2541P) (FEMA Docket No. P-7632) | City of Midland | November 12, 2003, November 19, 2003, Midland Reporter-Telegram | The Honorable Michael J. Canon, Mayor, City of Midland, 300 North Loraine, Midland, TX 79701 | October 21, 2003 | 480477
Texas: Collin (Case No.: 03-06-685P) (FEMA Docket No. P-7634) | City of Plano | January 7, 2004, January 14, 2004, Plano Star Courier | The Honorable Pat Evans, Mayor, City of Plano, P.O. Box 860358, Plano, TX 75086-0358 | December 16, 2003 | 480140
Texas: Bell (Case No.: 02-06-2439P) (FEMA Docket No. P-7634) | City of Temple | January 6, 2004, January 13, 2004, Temple Daily Telegram | The Honorable Bill Jones, III, Mayor, City of Temple, 2 North Main Street, Temple, TX 76501 | April 13, 2004 | 480034
Texas: Williamson (Case No.: 03-06-695P) (FEMA Docket No. P-7628) | Unincorporated Areas | August 20, 2003, August 27, 2003, Williamson County Sun | The Honorable John C. Doerfler, Judge, Williamson County, 710 Main Street, Suite 201, Georgetown, TX 78616 | November 26, 2003 | 481079
Texas: Collin (Case No.: 03-06-677P) (FEMA Docket No. P-7634) | City of Wylie | February 11, 2004, February 18, 2004, The Wylie News | The Honorable John Mondy, Mayor, City of Wylie, 2000 State Highway 78 North, Wylie, TX 75098 | May 19, 2004 | 480759

(Catalog of Federal Domestic Assistance No. 83.100, “Flood Insurance.”)
Dated: July 28, 2004.
David I. Maurstad,
Acting Director, Mitigation Division, Emergency Preparedness and Response Directorate.

[FR Doc. 04-17963 Filed 8-5-04; 8:45 am]

BILLING CODE 9110-12-P